Title 3—

The President

Proclamation 10150 of March 1, 2021

American Red Cross Month, 2021

By the President of the United States of America

A Proclamation

Throughout our country's history, the humanitarian spirit of the American people has shined as a beacon of hope in times of crisis. It is written in our DNA that when hardship strikes, we come together to ensure that no one faces it alone. It is in that spirit that we celebrate American Red Cross Month, a chance to honor all those selfless Americans who step up and lend a hand whenever and wherever people are in need.

For 140 years, the American Red Cross has been synonymous with the prevention and alleviation of human suffering across the globe. Founded by Clara Barton in 1881, the organization's mission lives on in the dedication of Red Cross workers—more than 90 percent of whom are volunteers—and the generosity of the American people in moments of crisis.

We saw unmistakable evidence of that spirit through the challenges of this past year. In 2020, more than 70,000 people became new Red Cross volunteers and stepped up on behalf of those in need—as disaster shelter workers, health workers, blood donor ambassadors, and transportation specialists. And when our country faced a severe blood shortage, the American people rolled up their sleeves, with more than a half-million of our friends and neighbors donating blood with the Red Cross for the first time.

In a year like no other, people made a lifesaving difference. As months of relentless hurricanes, wildfires, and other extreme weather events battered communities, families spent more nights in emergency lodging than in any other year over the past decade—thanks to the hard work and generosity of Red Cross volunteers and partners who provided more than 1.3 million people with overnight stays last year. When the pandemic strained emergency services, Red Cross workers adapted to help fulfill urgent needs. They responded to increased emergency calls from military families, aided hundreds of thousands of home fire survivors, supported international health and hygiene services, and safely provided health and safety courses to essential workers and others to help them manage the COVID-19 threat. In recent days, as harsh winter storms left many Americans without power and water across the South and Midwest, the Red Cross and its partners have worked to help people recover and restore access to safe water.

This month, we renew our commitment to Clara Barton's remarkable vision and join together, as one Nation, to recommit ourselves to a foundational American principle: the duty of care we owe to one another when times get tough. I urge all Americans to take part in that tradition through our own everyday acts of compassion—helping a neighbor, a stranger, or a community in need.

NOW, THEREFORE, I, JOSEPH R. BIDEN JR., President of the United States of America and Honorary Chairman of the American Red Cross, by virtue of the authority vested in me by the Constitution and the laws of the United States, do hereby proclaim March 2021 as American Red Cross Month. I encourage all Americans to observe this month with appropriate programs, ceremonies and activities, and by supporting the work of service and relief organizations.

IN WITNESS WHEREOF, I have hereunto set my hand this first day of March, in the year of our Lord two thousand twenty-one, and of the Independence of the United States of America the two hundred and forty-fifth.

[FR Doc. 2021-04639

Filed 3-3-21; 8:45 am]

Billing code 3295-F1-P